DEPARTMENT OF COMMERCE

International Trade Administration

[A-201-836]

Light-Walled Rectangular Pipe and Tube From Mexico: Extension of Time Limit for Final Results of Antidumping Duty Administrative Review

AGENCY: Import Administration, International Trade Administration, Department of Commerce.

DATES: Effective Date: January 6, 2011.

FOR FURTHER INFORMATION CONTACT: Brian Davis (Regiopytsa) or Edythe Artman (Maquilacero), AD/CVD Operations, Office 7, Import Administration, International Trade Administration, U.S. Department of Commerce, 14th Street and Constitution Avenue, NW., Washington, DC 20230; telephone: (202) 782-7924 or (202) 482-3931, respectively.

SUPPLEMENTARY INFORMATION:

Background

On September 13, 2010, the Department of Commerce (Department) published the preliminary results of the 2008/2009 administrative review of the antidumping duty order covering light-walled rectangular pipe and tube from Mexico. See Light-Walled Rectangular Pipe and Tube from Mexico: Preliminary Results of Antidumping Duty Administrative Review, 75 FR 55559 (September 13, 2010) (Preliminary Results). In the Preliminary Results, we invited parties to comment. See Preliminary Results, 75 FR at 55567. Respondent companies Nacional de Acero S.A. de C.V., Regiomontana de Perfiles y Tubos S.A. de C.V. (Regiopytsa), and Maquilacero S.A. de C.V. (Maquilacero) submitted case briefs on October 13, 2010. On October 18, 2010, the domestic interested parties (Atlas Tube, Bull Moose Tube Company, and Searing Industries, Inc.), submitted a rebuttal brief to Maquilacero's case brief and requested that Regiopytsa's case brief be rejected because of improper service. Respondent Ternium Mexico S.A. de C.V. and its affiliates Hylsa S.A. de C.V., Galvak S.A. de C.V., and Industrias Monterrey S.A. de C.V., also submitted a rebuttal brief on October 18, 2010. On October 25, 2010, the Department accepted Regiopytsa's case brief but provided additional time for all interested parties to submit rebuttal comments on the brief. On October 27, 2010, the domestic interested parties submitted a rebuttal brief to Regiopytsa's case brief.

The current deadline for the final results of this review is January 11, 2011.

Extension of Time Limits for Final Results

Section 751(a)(3)(A) of the Tariff Act of 1930, as amended (the Act), requires the Department to complete the final results of an administrative review within 120 days after the date on which the preliminary results are published. However, if it is not practicable to complete the review within the time period, section 751(a)(3)(A) of the Act allows the Department to extend the 120-day time period for the final results up to 180 days.

The Department finds that it is not practicable to complete this review within the original time frame because additional time is required to analyze some of the more complex issues raised by interested parties. For example, among other things, we need to further analyze cost adjustments related to revenues earned by Maquilacero on a special project and those related to sales of merchandise not produced during the period of review. Accordingly, the Department is extending the time limit for completion of the final results of this administrative review until no later than February 10, 2011, which is 150 days after the date on which the preliminary results of review were published.

This extension is issued and published in accordance with sections 751(a)(3)(A) and 777(i) of the Act.

Dated: December 30, 2010.
Christian Marsh,
Deputy Assistant Secretary for Antidumping and Countervailing Duty Operations.

[FR Doc. 2011-64 Filed 1-5-11; 8:45 am]

BILLING CODE 3510-DS-P